FEDERAL COMMUNICATIONS COMMISSION

[WT Docket 99-168; FCC 00-282]

Auction of Licenses for the 747-762 and 777-792 MHz Bands Postponed Until March 6, 2001 (Report No. AUC-00-31-I (Auction No. 31))

AGENCY: Federal Communications Commission.

ACTION: Notice.

SUMMARY: This document postpones the upcoming auction of licenses in the 747-762 and 777-792 bands originally scheduled to begin September 6, 2000, in order to provide additional time for bidder preparation and planning. The auction is rescheduled to begin March 6, 2001.

DATES: Auction No. 31 is will begin March 6, 2001.

FOR FURTHER INFORMATION CONTACT: Howard Davenport, Auctions Legal Branch at (202) 418-0660, or Lisa Stover, Auctions Operations at (717) 338-2804.

SUPPLEMENTARY INFORMATION: This is a summary of a Public Notice released July 31, 2000. The complete text of the public notice, including separate statements issued, is available for inspection and copying during normal business hours in the FCC Reference Center (Room CY-A257), 445 12th Street, SW, Washington, DC 20554. It may also be purchased from the Commission's copy contractor, International Transcription Services, Inc. (ITS, Inc.) 1231 20th Street, NW, Washington, DC 20036, (202) 857-3800. It is also available on the Commission's web site at http://www.fcc.gov.

The upcoming auction of licenses in the 747-762 and 777-792 MHz band, scheduled to begin on September 6, 2000 is postponed until March 6, 2001, in order to provide additional time for bidder preparation and planning. Therefore, the FCC Form 175 application filing window for Auction No. 31 is now closed. Any applications that were in the system will be deemed ineffective and purged from the system. Applicants wishing to participate must file in compliance with the deadlines listed. The new filing window for FCC Form 175 will open on January 11, 2001. The new schedule is as follows:

Filing Deadline for FCC Form 175—February 2, 2001; 6 pm ET

Upfront Payment Deadline—February 16, 2001; 6 pm ET

Bidding Preference Form Deadline—February 20, 2001; 6 pm ET

Mock Auction—March 1-2, 2001

Auction Start Date—March 6, 2001

Federal Communications Commission.
Louis J. Sigalos,
Deputy Chief, Auctions and Industry Analysis Division, Wireless Telecommunications Bureau.

[FR Doc. 00-19893 Filed 8-4-00; 8:45 am]

BILLING CODE 6712-01-P